DEPARTMENT OF THE INTERIOR

Fish and Wildlife Service

50 CFR Part 11

[Docket No. FWS-HQ-LE-2025-0001; FF09L00200-FX-LE12200900000]

RIN 1018-BI02

Civil Penalties; 2025 Inflation Adjustments for Civil Monetary Penalties

AGENCY: Fish and Wildlife Service, Interior.

ACTION: Final rule.

SUMMARY: The U.S. Fish and Wildlife Service (Service or we) issues this final rule to adjust for inflation the statutory civil monetary penalties that may be assessed for violations of Service-administered statutes and their implementing regulations. We issue this rule in accordance with the Federal Civil Penalties Inflation Adjustment Act Improvements Act of 2015 (the 2015 Act) and Office of Management and Budget (OMB) memorandum M-25-02. We are required to adjust civil monetary penalties annually for inflation according to a formula specified in the 2015 Act. This rule replaces the previously issued amounts with the updated amounts after using the 2025 inflation adjustment multiplier provided in M-25-02.

DATES: This rule is effective August 18, 2025.

ADDRESSES: This rule may be found on the internet at https://www.regulations.gov in Docket No. FWS-HQ-LE-2025-0001.

FOR FURTHER INFORMATION CONTACT: William Stull, Special Agent in Charge, Headquarters Investigations Unit, U.S. Fish and Wildlife Service, Office of Law Enforcement, (470) 512-0690. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

The regulations at 50 CFR part 11 provide uniform rules and procedures for the assessment of civil penalties resulting from violations of certain laws and regulations enforced by the Service. Under section 4 of the Federal Civil Penalties Inflation Adjustment Act of 1990, 28 U.S.C. 2461 note (the Inflation Adjustment Act), as amended by the 2015 Act, each Federal agency must issue regulations adjusting for inflation the statutory civil monetary penalties (civil penalties) that can be imposed under the laws administered by that agency. The 2015 Act (sec. 701 of Pub. L. 114-74) amended the Inflation Adjustment Act to require Federal agencies to adjust their civil monetary penalties with an initial “catch up” adjustment through rulemaking in 2016 and then make subsequent annual adjustments for inflation. The purpose of these adjustments is to maintain the deterrent effect of civil penalties and to further the policy goals of the underlying statutes.

The 2015 Act provided that the initial “catch up adjustment” take effect no later than August 1, 2016, followed by subsequent adjustments no later than January 15 every year thereafter. This final rule adjusts the civil penalty amounts that may be imposed pursuant to each statutory provision beginning on the date specified above in the DATES caption above. On June 28, 2016, the Service published in the Federal Register (81 FR 41862) an interim rule that revised 50 CFR part 11 to carry out the Inflation Adjustment Act. The Service subsequently published a final rule to that interim rule on December 23, 2016 (81 FR 94274). The Service has published final rules every year thereafter, further adjusting the civil penalty amounts in 50 CFR 11.33 per OMB guidance:

• 82 FR 6307, January 19, 2017;

• 83 FR 5950, February 12, 2018;

• 84 FR 15525, April 16, 2019;

• 85 FR 10310, February 24, 2020;

• 86 FR 15427, March 23, 2021;

• 87 FR 13948, March 11, 2022;

• 88 FR 5796, January 30, 2023; and

• 89 FR 7295, February 2, 2024.

This final rule adjusts the 2024 civil monetary penalty amounts codified at 50 CFR 11.33 by using the 2025 inflation multiplier provided by OMB in M-25-02, “Implementation of Penalty Inflation Adjustments for 2025, Pursuant to the Federal Civil Penalties Inflation Adjustment Act Improvements Act of 2015.” The cost-of-living adjustment multiplier for 2025 is 1.02598. Therefore, we multiplied each penalty in the table in 50 CFR 11.33 by 1.02598 to obtain the 2025 annual adjustment. The new amounts are reflected in the table in the rule portion of this document and replace the current amounts in 50 CFR 11.33.

Required Determinations

Regulatory Planning and Review (Executive Orders 12866 and 13563)

Executive Order (E.O.) 12866, as reaffirmed by E.O. 13563, provides that OMB's Office of Information and Regulatory Affairs (OIRA) will review all significant rules. OIRA has determined that this rule is not significant.

In addition, in this final rule, we affirm the required determinations that we made in the June 28, 2016, interim rule (81 FR 41862). For descriptions of our actions to ensure compliance with the following statutes and Executive orders, see that interim rule:

• National Environmental Policy Act (42 U.S.C. 4321 et seq.);

• Regulatory Flexibility Act (5 U.S.C. 601 et seq.);

• Small Business Regulatory Enforcement Fairness Act (5 U.S.C. 804(2));

• Paperwork Reduction Act of 1995 (44 U.S.C. 3501 et seq.);

• Unfunded Mandates Reform Act (2 U.S.C. 1501 et seq.); and

• Executive Orders 12630, 12988, 13132, 13175, and 13211.

Administrative Procedure Act

Section 553(b) of the Administrative Procedure Act (5 U.S.C. 551 et seq.) provides that, when an agency for good cause finds that notice and public procedure are impracticable, unnecessary, or contrary to the public interest, the agency may issue a rule without providing notice and an opportunity for prior public comment. Additionally, under the 2015 Act, agencies must adjust their civil penalties notwithstanding the notice and comment requirements of section 553. See M-25-02, p. 4. Finally, the Service finds that providing for public comment before issuing this rule is unnecessary as this rulemaking is a nondiscretionary action. The Service is required to publish this rule to update the civil penalty amounts by the specified formula described above. The Service has no discretion to vary the amount of the adjustment to reflect any views or suggestions provided by commenters. Since this update to the February 2, 2024, final rule (89 FR 7295) is merely ministerial, we find that pre-publication notice and public comment with respect to the revisions set forth in this rule is unnecessary. We also posit that we have good cause under 5 U.S.C. 553(d) to make this rule effective upon publication.

List of Subjects in 50 CFR Part 11

Administrative practice and procedure, Exports, Fish, Imports, Penalties, Plants, Transportation, Wildlife.

Regulation Promulgation

For the reasons described above, we amend part 11, subchapter B of chapter I, title 50 of the Code of Federal Regulations as set forth below.

PART 11—CIVIL PROCEDURES

1. The authority citation for part 11 continues to read as follows:

Authority: 16 U.S.C. 470aa-470mm, 470aaa-470aaa-11, 668-668d, 1361-1384, 1401-1407, 1531-1544, 3371-3378, 4201-4245, 4901-4916, 5201-5207, 5301-5306; 18 U.S.C. 42-43; 25 U.S.C. 3001-3013; and Sec. 701, Pub. L. 114-74, 129 Stat. 599, unless otherwise noted.

2. Revise the table in § 11.33 to read as follows:

§ 11.33 Adjustments to penalties.

* * * * *

Law | Citation | Type of violation | Maximum civil monetary penalty
(a) African Elephant Conservation Act | 16 U.S.C. 4224(b) | Any violation | $13,132
(b) Bald and Golden Eagle Protection Act | 16 U.S.C. 668(b) | Any violation | 16,590
(c) Endangered Species Act of 1973 | 16 U.S.C. 1540(a)(1) | (1) Knowing violation of section 1538 | 65,653
|  | (2) Other knowing violation | 31,513
|  | (3) Any other violation | 1,659
(d) Lacey Act Amendments of 1981 | 16 U.S.C. 3373(a) | (1) Violations referred to in 16 U.S.C. 3373(a)(1) | 33,181
|  | (2) Violations referred to in 16 U.S.C. 3373(a)(2) | 829
(e) Marine Mammal Protection Act of 1972 | 16 U.S.C. 1375 | Any violation | 33,181
(f) Recreational Hunting Safety Act of 1994 | 16 U.S.C. 5202(b) | (1) Violation involving use of force or violence or threatened use of force or violence | 21,114
|  | (2) Any other violation | 10,556
(g) Rhinoceros and Tiger Conservation Act of 1998 | 16 U.S.C. 5305a(b)(2) | Any violation | 23,097
(h) Wild Bird Conservation Act of 1992 | 16 U.S.C. 4912(a)(1) | (1) Violation of section 4910(a)(1), section 4910(a)(2), or any permit issued under section 4911 | 55,652
|  | (2) Violation of section 4910(a)(3) | 26,711
|  | (3) Any other violation | 1,114

Kevin Lilly,
Acting Assistant Secretary for Fish and Wildlife and Parks.

[FR Doc. 2025-15720 Filed 8-15-25; 8:45 am]

BILLING CODE 4333-15-P